DEPARTMENT OF THE INTERIOR

Bureau of Land Management

[NV-930-1430-EU; N-61406]

Notice of Reality Action: Non-Competitive Sale of Public Land

AGENCY: Bureau of Land Management.

ACTION: Non-Competitive Sale of Public Land in Lincoln County, Nevada.

SUMMARY: The below listed public land in Ash Springs, Lincoln County, Nevada has been examined and found suitable for sale utilizing non-competitive procedures, at not less than the fair market value. In accordance with Section 7 of the Act of June 28, 1934, as amended, 43 U.S.C. 315f and EO 6910, the described lands are hereby classified as suitable for disposal under the authority of Section 203 and Section 209 of the Act of October 21, 1976; 43 U.S.C. 1713 and 1719.

DATES: On or before April 27, 2000, interested parties may submit comments to the Assistant Field Manager, Non-Renewable Resources.

ADDRESSES: Written comments should be addressed to: Bureau of Land Management, Gene L. Drais, Assistant Field manager, Nonrenewable Resources, HC33, BOX 33500, Ely, NV 89301-9408.

FOR FURTHER INFORMATION CONTACT: Kevin Finn, Realty Specialist, at the above address or telephone (775) 289-1849.

SUPPLEMENTARY INFORMATION: The following described parcel of land, situated in Lincoln County is being offered as a direct sale to Hi—Desert Springs, LLC.

Mount Diablo Meridian, Nevada

T. 6 S., R. 61 E.,

Section 6,

Government Lots 9 and 10

Containing 11.79 acres more or less.

This land is not required for any federal purposes. The sale is consistent with current Bureau planning for this area and would be in the public interest. In the event of a sale, conveyance of the available mineral interests will occur simultaneously with the sale of the land. The mineral interests being offered for conveyance have no known mineral interests. The applicant will be required to pay $50.00 nonreturnable filing fee for the conveyance of the available mineral interests.

The patent, when issued, will contain the following reservations to the United States:

1. All the oil and gas mineral deposits in the land subject to this conveyance, including without limitation, the disposition of these substances under the mineral leasing laws. Its permittee, licensees and lessees, the right to prospect for, mine and remove the minerals owned by the United States under applicable law and such regulations as the Secretary of the Interior may prescribe. This reservation includes all necessary and incidental activities conducted in accordance with the provisions of the mineral leasing laws in effect at the time such activities are undertaken, including, without limitation, necessary access and exit rights, all drilling, underground, or surface mining operation, storage and transportation facilities deemed necessary and authorized under the law and implementing regulations. Unless otherwise provided by separate agreement with surface owner, permittee, licenses of the United States shall reclaim disturbed areas to the extent prescribed by regulations issued by the Secretary of the Interior. All cause of action brought to enforce the rights of the surface owner under the regulations above referred to shall be instituted against permittee, licenses and lessees of the United States, and the United States shall not be liable for the acts or omissions of its permittee, licensees and lessees.

Upon publication of this notice in the Federal Register, the above described land will be segregated from all other forms of appropriation under the public land laws, including the general mining laws, except leasing under the mineral leasing laws. This segregation will terminate upon issuance ow a patent or 270 days from the date of this publication, whichever occurs first.

For a period of 45 days from the date of publication of this notice in the Federal Register, interested parties may submit comments regarding this action to the Assistant Field Manager, Nonrenewable Resources at the address list above. Any adverse comments will be reviewed by the State Director who may sustain, vacate, or modify the realty action. In absence of any adverse comments, this realty action will become the final determination of the Department of the Interior. The Bureau of Land Management may accept or reject any or all officer, consumption of the sale would not be fully consistent with the Federal Land Management and Policy Act of 1976, or other applicable laws. The lands will not be offered for sale until at least 60 days after publication of this notice in the Federal Register.

Dated: March 1, 2000.
Gene A. Kolkman,
Field Manager.

[FR Doc. 00-6056 Filed 3-10-00; 8:45 am]

BILLING CODE 4310-HC-M